DEPARTMENT OF DEFENSE

Office of the Secretary

Meeting To Discuss the Future of the Office of the Special Assistant for Gulf War Illnesses (OSAGWI)

AGENCY: Special Oversight Board for Department of Defense Investigations of Gulf War Chemical and Biological Incidents, Department of Defense.

ACTION: Notice.

SUMMARY: The Board will conduct a public meeting to obtain information from veterans service organizations and the Departments of Defense, Veterans Affairs, and Health and Human Services regarding the design of a successor organization to OSAGWI. The meeting will begin at 9:00 a.m. EDT.

DATES: April 4, 2000.

ADDRESSES: Truman Room, White House Conference Center, 726 Jackson Place, NW, Washington, DC 20503.

FOR FURTHER INFORMATION CONTACT: Contact Mr. David Edman, Special Oversight Board, 1401 Wilson Blvd, Suite 401, Arlington, VA 22209, phone (703) 696-9468, fax (703) 696-4062, or via Email at Gulfsyn@osd.pentagon.mil. Requests to present oral comments regarding an OSAGWI successor organization must be sent to Mr. Edman and received no later than noon Friday, March 24, 2000 for consideration. Written comments must be received no later than noon Thursday, March 30, 2000 to ensure their availability to board members prior to the hearing. Copies of the draft meeting agenda can be obtained by contacting Ms. Sandra Simpson at (703) 696-9464 or at the above fax number or above email.

SUPPLEMENTARY INFORMATION: Seating in the Truman Room is limited, and spaces will be reserved only for scheduled speakers. The remaining seats will be available on a first-come, first-served basis beginning at 8:30 a.m. No teleconference lines will be available. The Special Oversight Board expects that statements presented at this meeting will deal only with the design of a successor organization to OSAGWI and its affiliation, if any, with the Departments of Defense, Veterans Affairs, and Health and Human Services. In general, each individual or group making an oral presentation will be limited to a total time of five minutes. Written comments will be provided to Board members if at least 10 copies are received in the Special Oversight Board Staff Office no later than noon March 30, 2000. Written comments received after that date will be mailed to Board members after the adjournment of the April 2000 meeting and will also be included in the official records of that meeting. The White House Conference Center, 726 Jackson, Place, NW, is located on the west side of Lafayette Park. Lafayette Park is on the north side of the White House and bounded by Pennsylvania Avenue on the south, H Street on the north and centered at 16th Street Lafayette Park is within easy walking distance of the Farragut West (two city blocks) or McPherson Square (three city blocks) MetroRail subway stops (Blue and Orange lines). There is no vehicular access to Jackson Place. Taxicabs should be directed to the Decatur House, 1600 H Street, NW.

Dated: March 6, 2000.
L.M. Bynum,
Alternative OSD Federal Register Liaison Officer, Department of Defense.

[FR Doc. 00-5902 Filed 3-9-00; 8:45 am]

BILLING CODE 5001-10-M